DEPARTMENT OF AGRICULTURE

National Institute of Food and Agriculture

Solicitation of Commodity Board Topics and Contribution of Funding Under the Agriculture and Food Research Initiative Competitive Grants Program

AGENCY: National Institute of Food and Agriculture, USDA.

ACTION: Notice of opportunity for commodity boards to submit topics and contribute funding under the Agriculture and Food Research Initiative Competitive Grants Program.

SUMMARY: The National Institute of Food and Agriculture is soliciting topics from eligible commodity board entities (Federal and State-level commodity boards, as defined below), which they are willing to equally co-fund with NIFA. To be considered for inclusion in future Agriculture and Food Research Initiative Competitive Grants Program (AFRI) Requests for Applications (RFAs), topics must relate to the established priority areas of AFRI.

DATES: Commodity boards may submit topics at any time; however, all topics to be considered for the fiscal year 2018 AFRI RFAs must be received by 5:00 p.m., EDT on July 25, 2017. Topics submitted by eligible commodity board entities after this date will be considered for RFAs to be issued in future years. NIFA will hold a webinar and workshop to respond to questions from commodity boards interested in submitting topics. Details including the date and time, and access information will be posted on the NIFA Web site (http://nifa.usda.gov/commodity-boards/).

ADDRESSES: You may submit topics by the following method: Web site: https://nifa.usda.gov/webform/commodity-board-topic-submission/.

Instructions: The topic submission must be through the Web site form; emailed topics will not be accepted. Required fields are marked. Topics submitted through this form will not be posted to a public site.

FOR FURTHER INFORMATION CONTACT: Mark Mirando; Phone: (202) 401-4336, or Email: commodityboards@nifa.usda.gov.

SUPPLEMENTARY INFORMATION: As part of the National Institute of Food and Agriculture's (NIFA) strategy to implement section 7404 of Public Law 113-79, the Agricultural Act of 2014, NIFA is soliciting topics from eligible commodity board entities (Federal and State-level commodity boards, as defined below), which they are willing to equally co-fund with NIFA. To be considered for inclusion in future Agriculture and Food Research Initiative Competitive Grants Program (AFRI) Requests for Applications (RFAs), topics must relate to the established priority areas of AFRI.

Commodity boards are those entities established under a commodity promotion law, as such term is defined under section 501(a) of the Federal Agriculture Improvement and Reform Act of 1996 (7 U.S.C. 7401(a), or a State commodity board or other equivalent State entity. See the “Supplementary Information” section of this Notice under the heading “Eligibility for Submitting Topics” for further information.

If, after NIFA's evaluation, proposed topics are accepted for inclusion in an AFRI RFA, they will be incorporated into AFRI competitive grants program RFAs. As a condition of funding grants pertaining to a topic, NIFA will require an agreement with the commodity board to provide funds equal to the amount NIFA is contributing under the agreed upon topic.

This Notice invites topic submissions from commodity boards as defined above, outlines the process NIFA will use to evaluate the appropriateness of these topics for inclusion in AFRI RFAs, and describes the commitment required of commodity boards for NIFA to jointly fund competitively selected AFRI awards within a topic area submitted by the commodity boards.

Background and Purpose

This Notice begins the third topic submission cycle to implement section 2(b)(4)(F) of the Competitive, Special, and Facilities Research Grant Act (7 U.S.C. 450i(b)(4)(F)), as added by section 7404 of the Agricultural Act of 2014, Public Law 113-79, which requires NIFA to “establish procedures, including timelines, under which an entity established under a commodity promotion law, as such term is defined under section 501(a) of the Federal Agriculture Improvement and Reform Act of 1996 (7 U.S.C. 7401(a), or a State commodity board (or other equivalent State entity) may directly submit to [NIFA] for consideration proposals for requests for applications” within the AFRI Program.

Stakeholder feedback gathered in previous years informed this Notice and the process NIFA is using to implement section 7404. This Notice invites entities established under a commodity promotion law or State commodity boards (or other equivalent State entities) to submit topics they are proposing for inclusion in fiscal year 2018 AFRI RFAs. Topics must relate to the established AFRI priority areas, which are: Plant health and production and plant products; animal health and production and animal products; food safety, nutrition, and health; bioenergy, natural resources, and environment; agriculture systems and technology; and agriculture economics and rural communities. A summary statement on AFRI is included below. To learn more about AFRI programs, including program priorities, typical award budget amounts, and examples of RFAs, please visit: http://nifa.usda.gov/commodity-boards/.

AFRI Program Overview

The AFRI program is the largest agricultural competitive grants program in the United States and a primary funding source for research, education, and extension projects that bring practical solutions to some of today's most critical societal challenges. AFRI programs impact all components of agriculture, including farm and ranch efficiency and profitability, bioenergy, forestry, aquaculture, rural communities, human nutrition, food safety, biotechnology, and genetic improvement of plants and animals.

In FY 2018, NIFA will solicit applications for AFRI funding opportunities in the six AFRI priority areas (Plant health and production and plant products; Animal health and production and animal products; Food safety, nutrition, and health; Bioenergy, natural resources, and environment; Agriculture systems and technology; Agriculture economics and rural communities). It is anticipated these will include the AFRI Foundational Science Program RFA and the AFRI Education and Workforce Development RFA. The annual AFRI Foundational Science Program RFA solicits grant applications focused predominately, but not exclusively, on fundamental scientific research addressing statutory priorities. The AFRI Education and Workforce Development RFA solicits grant applications for training K-14 teachers and administrators, undergraduate research and extension experiential learning fellowships, and pre- and post-doctoral fellowships. Any additional AFRI RFAs made available in FY 2018 will be included in this solicitation.

Eligibility for Submitting Topics

Eligible commodity board entities are those established under a commodity promotion law, as such term is defined under section 501(a) of the Federal Agriculture Improvement and Reform Act of 1996 (7 U.S.C. 7401(a)), or a State commodity board (or other equivalent State entity). Language in 7 U.S.C. 7401(a) defines a “commodity promotion law” as “a Federal law that provides for the establishment and operation of a promotion program regarding an agricultural commodity that includes a combination of promotion, research, industry information, or consumer information activities, is funded by mandatory assessments on producers or processors, and is designed to maintain or expand markets and uses for the commodity (as determined by the Secretary).” 7 U.S.C. Section 7401(a) includes a list of such Federal laws.

A current list of approved entities is maintained at (http://nifa.usda.gov/commodity-boards/). Additionally, entities eligible to submit topics include a State commodity board (or other equivalent State entity). This includes commodity boards authorized by State law; commodity boards that are not authorized by State law, but are organized and operate within a State and meet the requirements of their authorizing statute; and commodity boards that are authorized by a State and operate within the State for commodities that have no Federal program or oversight.

Topic Submission Guidance and Procedures

Topics may be submitted at any time and will be evaluated by NIFA on an annual basis. However, to be considered for the proposed fiscal year 2018 AFRI RFAs, topics must be received by COB (5 p.m. Eastern Daylight Time) on July 25, 2017.

Each topic proposed must be submitted using the online topic submission form provided at: https://nifa.usda.gov/webform/commodity-board-topic-submission/. Commodity boards may propose support for multiple awards for each topic proposed. For each topic the commodity board proposes to support, the minimum amount contributed by the commodity board must align with budget guidance for each AFRI area (http://nifa.usda.gov/commodity-boards/) and comply with the maximum amount of $2.5 million allowed per topic. NIFA does not intend to match funding from a single commodity board in excess of $10 million in any year. Commodity boards should only submit topics that have a strong economic impact on their industry and U.S. agriculture, as a whole. Examples of topics typically supported by AFRI can be found at http://nifa.usda.gov/commodity-boards/.

If topics are accepted for funding, they will be incorporated into AFRI RFAs, and grants supporting the topic area may be awarded to AFRI eligible entities based on a competitive peer review process. As a condition of funding grants in a topic, NIFA will require an agreement by the commodity board to provide funds in an amount equal to the amount NIFA is contributing under the agreed upon topic. If a topic is selected for inclusion in an RFA, the commodity board submitting the topic will be required to maintain the confidentiality of the topic until the RFA is issued by NIFA. All commodity board funds and NIFA funds must be available at the time awards are selected for funding; awards are fully funded at the beginning of the award. Applications submitted under topics provided by commodity boards will be required to include a letter of support from the commodity board that proposed the topic.

Evaluation and Notification Process

NIFA will screen proposed research topics to ensure eligibility of the submitting commodity boards. NIFA will also consult with USDA's Agricultural Marketing Service (AMS) to determine that submissions and proposed financial contributions are consistent with commodity promotion laws and commodity boards' charters, as applicable.

Commodity board topics are reviewed by an internal panel based on evaluation criteria developed using stakeholder input from commodity boards and other stakeholders from government, industry, and academe. Each topic will be evaluated based on: Alignment with one or more of the statutory AFRI priority areas (six AFRI priority areas authorized in the Farm Bill and described in 7 CFR 3430.309); alignment with the President's budget proposal for NIFA, as identified in the Department of Agriculture's annual budget submission; and alignment with the priority areas in the AFRI RFAs to be released by NIFA during the fiscal year for which the commodity board is proposing a topic for funding (for example, within the AFRI Foundational Science RFA, the AFRI Animal Health and Production and Animal Products' “Animal Reproduction” priority area).

From those topics received by COB (5 p.m. Eastern Daylight Time) on July 25, 2017, NIFA will select the topic(s) that were evaluated favorably for inclusion in the appropriate FY 2018 AFRI RFA. NIFA will notify commodity boards as to whether their topics will be included by August 24, 2017. Based on the evaluation, NIFA reserves the right to negotiate with commodity boards should changes be required to accept topics and funding amounts. Any changes to topics and funding amounts will be reviewed by USDA's AMS to determine if such changes are consistent with applicable commodity promotion laws.

NIFA will evaluate topics submitted after the July 25, 2017 deadline on an annual basis and notify commodity boards whether their topics will be included in subsequent RFAs within two weeks following the meeting of the internal evaluation panel, the date of which will be published on NIFA's Commodity Boards Web page at (http://nifa.usda.gov/commodity-boards/).

Done at Washington, DC, this 19th day of May, 2017.
Robert Holland,
Associate Director, National Institute of Food and Agriculture.

[FR Doc. 2017-10782 Filed 5-25-17; 8:45 am]

BILLING CODE 3410-22-P